DEPARTMENT OF HOMELAND SECURITY

Transportation Security Administration

Intent To Request Renewal From OMB of One Current Public Collection of Information: Flight Crew Self-Defense Training—Registration and Evaluation

AGENCY: Transportation Security Administration, DHS.

ACTION: 60-day notice.

SUMMARY: The Transportation Security Administration (TSA) invites public comment on one currently approved Information Collection Request (ICR), Office of Management and Budget (OMB) control number 1652-0028, abstracted below, that we will submit to OMB for renewal in compliance with the Paperwork Reduction Act (PRA). The ICR describes the nature of the information collection and its expected burden. The collection involves requesting, name, contact information, airline employee number, and Social Security number (last four digits) from flight and cabin crew members of air carriers to verify employment status to confirm eligibility to participate in voluntary advanced self-defense training provided by TSA. Eligible training participants are flight and cabin crew members of an airline conducting scheduled passenger operations. Additionally, each participant is asked to complete a voluntary course evaluation form after the training concludes.

DATES: Send your comments by November 10, 2014.

ADDRESSES: Comments may be emailed to TSAPRA@tsa.dhs.gov or delivered to the TSA PRA Officer, Office of Information Technology (OIT), TSA-11, Transportation Security Administration, 601 South 12th Street, Arlington, VA 20598-6011.

FOR FURTHER INFORMATION CONTACT: Christina A. Walsh at the above address, or by telephone (571) 227-2062.

SUPPLEMENTARY INFORMATION:

Comments Invited

In accordance with the Paperwork Reduction Act of 1995 (44 U.S. C. 3501 et se.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0028, Flight Crew Self-Defense Training—Registration and Evaluation. TSA is seeking to renew the ICR, currently approved under OMB number 1652-0028, to continue compliance with a statutory mandate. Under 49 U.S. C. 44918(b), TSA is required to develop and provide a voluntary advanced self-defense training program for flight and cabin crew members of air carriers providing scheduled passenger air transportation.

This renewal is necessary so that TSA may continue to provide the program to eligible participants as well as assess training quality. TSA must collect limited biographical information from flight and cabin crew members to confirm their eligibility to participate in this training, consisting of the participant's name, contact information, airline employee number, and the last four digits of his or her Social Security number. TSA then confirms the eligibility of the participant by contacting the participant's employer. TSA also asks participants to complete an anonymous and voluntary evaluation form after participation in the training to assess the quality of the training.

The estimated number of annual respondents is 1,000 and estimated annual burden is 250 hours. TSA plans to graduate at least 1,000 crew members during each year of the program. Each crew member completes a registration form either on-line or via telephone. At the end of the course, each participant is asked to complete the voluntary TSA Level-1 Evaluation Form. Altogether this will amount to approximately 2,000 total responses.

TSA estimates, at most, the registration process will require 5 minutes per crew member. This would amount to 1,000 crew members times 5 minutes equals 5,000 minutes or 83.3 hours (1,000 members × 5 min = 5,000 min [83.3 hrs]). TSA estimates approximately 10 minutes per crew member to complete the TSA Level 1 Evaluation Form, for a total of 10,000 minutes or 166.7 hours for all 1,000 crew members (1,000 members × 10 min = 10,000 min [166.7 hrs]). TSA therefore estimates the total annual hours requested to be 250 hours (83.3+166.7 = 250 hrs). There is no estimated annual cost burden to respondents.

Dated: September 4, 2014.
Christina A. Walsh,
TSA Paperwork Reduction Act Officer, Office of Information Technology.

[FR Doc. 2014-21409 Filed 9-8-14; 8:45 am]

BILLING CODE 9110-05-P